DEPARTMENT OF ENERGY

Federal Energy Regulatory Commission

[Project No. 2524-021-OK]

Grand River Dam Authority; Notice of Availability of Draft Environmental Assessment

In accordance with the National Environmental Policy Act of 1969 and the Federal Energy Regulatory Commission's (Commission or FERC) regulations, 18 CFR part 380 (Order No. 486, 52 FR 47897), the Office of Energy Projects has reviewed Grand River Dam Authority's application for license for the 260-megawatt (MW) Salina Pumped Storage Project (FERC Project No. 2524), located on Saline Creek and the Saline Creek arm of Lake Hudson on the Grand River, near the city of Salina in Mayes County, Oklahoma. The project does not occupy any Federal lands.

Staff prepared a draft environmental assessment (EA), which analyzes the potential environmental effects of relicensing the project, and concludes that relicensing the project, with appropriate environmental protective measures, would not constitute a major federal action that would significantly affect the quality of the human environment.

A copy of the draft EA is on file with the Commission and is available for public inspection. The draft may also be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Comments on the draft EA should be filed within 30 days from the date of this notice. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll-free at 1-866-208-3676, or for TTY, 202-502-8659. In lieu of electronic filing, please send a paper copy to: Secretary, Federal Energy Regulatory Commission, 888 First Street NE., Washington, DC 20426. The first page of any filing should include docket number P-2524-021.

For further information, contact Stephen Bowler by telephone at 202-502-6861 or by email at stephen.bowler@ferc.gov or Jeanne Edwards by telephone at 202-502-6181 or by email at jeanne.edwards@ferc.gov.

Dated: November 4, 2014.
Kimberly D. Bose,
Secretary.

[FR Doc. 2014-26961 Filed 11-13-14; 8:45 am]

BILLING CODE 6717-01-P